DEPARTMENT OF HOUSING AND URBAN DEVELOPMENT

[Docket No. FR-4901-N-42]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administration, Office of Property Disposal, 18th and F Streets, NW., Washington, DC 20405; (202) 501-0084; NAVY: Mr. Charles C. Cocks, Department of the Navy, Real Estate Policy Division, Facilities Engineering command, Washington Navy Yard, 1322 Patterson Ave., SE., Suite 1000, Washington, DC 20374-5065; (202) 685-9200; (These are not toll-free numbers).

Dated: October 7, 2004.
Mark. R. Johnston,
Director, Office of Special Needs Assistance Programs.

Title V, Federal Surplus Property Program Federal Register Report For 10/15/2004

Suitable/Available Properties

Buildings (by State)

Colorado

Western Montrose Hangar

Interstate 35

Montrose Co: CO 81401-

Landholding Agency: GSA

Property Number: 54200440001

Status: Excess

Comment: 60 ×120 airport hangar, off-site use only

GSA Number: 7-B-CO-0624

Oklahoma

Jay Federal Building

210 S 5th Street

Jay Co: Delaware OK 74346-

Landholding Agency: GSA

Property Number: 54200440002

Status: Surplus

Comment: 10153 sq. ft., most recent use—office, 49% occupied until December 2006

GSA Number: 7-G-OK-0565

Unsuitable Properties

Buildings (by State)

Idaho

3 Bldgs.

Idaho National Eng & Env Lab

Scoville Co: Butte ID 83415-

Location: TRA603, TRA604, TRA610

Landholding Agency: Energy

Property Number: 41200430089

Status: Excess

Reason: Secured Area

Bldg. TAN611

Idaho National Eng & Env Lab

Scoville Co: Butte ID 83415-

Landholding Agency: Energy

Property Number: 41200430090

Status: Excess

Reason: Secured Area

5 Bldgs.

Idaho National Eng & Env Lab

Scoville Co: Butte ID 83415-

Location: TRA626, TRA635, TRA642, TRA648, TRA654

Landholding Agency: Energy

Property Number: 41200430091

Status: Excess

Reason: Secured Area

Bldg. TAN655

Idaho National Eng & Env Lab

Scoville Co: Butte ID 83415-

Landholding Agency: Energy

Property Number: 41200430092

Status: Excess

Reason: Secured Area

3 Bldgs.

Idaho National Eng & Env Lab

Scoville Co: Butte ID 83415-

Location: TRA657, TRA661, TRA668

Landholding Agency: Energy

Property Number: 41200430093

Status: Excess

Reason: Secured Area

Bldg. TAN711

Idaho National Eng & Env Lab

Scoville Co: Butte ID 83415-

Landholding Agency: Energy

Property Number: 41200430094

Status: Excess

Reason: Secured Area

6 Bldgs.

Idaho National Eng & Env Lab

Scoville Co: Butte ID 83415-

Location: CPP602-CPP606, CPP609

Landholding Agency: Energy

Property Number: 41200430095

Status: Excess

Reason: Secured Area

5 Bldgs.

Idaho National Eng & Env Lab

Scoville Co: Butte ID 83415-

Location: CPP611-CPP614, CPP616

Landholding Agency: Energy

Property Number: 41200430096

Status: Excess

Reason: Secured Area

4 Bldgs.

Idaho National Eng & Env Lab

Scoville Co: Butte ID 83415-

Location: CPP621, CPP626, CPP630, CPP 639

Landholding Agency: Energy

Property Number: 41200430097

Status: Excess

Reason: Secured Area

4 Bldgs.

Idaho National Eng & Env Lab

Scoville Co: Butte ID 83415-

Location: CPP641, CPP644, CPP645, CCP649

Landholding Agency: Energy

Property Number: 41200430098

Status: Excess

Reason: Secured Area

Bldgs. CPP651-CPP655

Idaho National Eng & Env Lab

Scoville Co: Butte ID 83415-

Landholding Agency: Energy

Property Number: 41200430099

Status: Excess

Reason: Secured Area

Bldgs. CPP659-CPP663

Idaho National Eng & Env Lab

Scoville Co: Butte ID 83415-

Landholding Agency: Energy

Property Number: 41200440001

Status: Excess

Reason: Secured Area

Bldgs. CPP666, CPP668

Idaho National Eng & Env Lab

Scoville Co: Butte ID 83415-

Landholding Agency: Energy

Property Number: 41200440002

Status: Excess

Reason: Secured Area

3 Bldgs.

Idaho National Eng & Env Lab

Scoville Co: Butte ID 83415-

Location: CPP674, CPP675, CPP679

Landholding Agency: Energy

Property Number: 41200440003

Status: Excess

Reason: Secured Area

3 Bldgs.

Idaho National Eng & Env Lab

Scoville Co: Butte ID 83415-

Location: CPP684, CPP687, CPP688

Landholding Agency: Energy

Property Number: 41200440004

Status: Excess

Reason: Secured Area

Idaho

7 Bldgs.

Idaho National Eng & Env Lab

Scoville Co: Butte ID 83415-

Location: CPP690, CPP692, CPP694, CPP696-CPP699

Landholding Agency: Energy

Property Number: 41200440005

Status: Excess

Reason: Secured Area

3 Bldgs.

Idaho National Eng & Env Lab

Scoville Co: Butte ID 83415-

Location: CPP701, CPP701A, CPP708

Landholding Agency: Energy

Property Number: 41200440006

Status: Excess

Reason: Secured Area

Bldgs. 711, 719A

Idaho National Eng & Env Lab

Scoville Co: Butte ID 83415-

Landholding Agency: Energy

Property Number: 41200440007

Status: Excess

Reason: Secured Area

4 Bldgs.

Idaho National Eng & Env Lab

Scoville Co: Butte ID 83415-

Location: CPP724-CPP726, CPP728

Landholding Agency: Energy

Property Number: 41200440008

Status: Excess

Reason: Secured Area

New York

Woodhaven Housing

Park Drive

Rome Co: NY 13440-

Landholding Agency: GSA

Property Number: 54200440003

Status: Surplus

Reason: Extensive deterioration

GSA Number: 1-D-NY-0831-C

[FR Doc. 04-22966 Filed 10-14-04; 8:45 am]

BILLING CODE 4210-29-M